DEPARTMENT OF ENERGY

Federal Energy Regulatory Commission

[Project No. 1333-066]

Pacific Gas and Electric Company, Tule Hydro LLC; Notice of Application for Transfer of License and Soliciting Comments, Motions To Intervene, and Protests

On February 1, 2022, Pacific Gas and Electric Company (transferor) and Tule Hydro LLC (transferee) filed jointly an application for the transfer of license of the Tule River Hydroelectric Project No. 1333. The project is located on Tule River, Springville City, in Tulare County, California.

The applicants seek Commission approval to transfer the license for the Tule River Hydroelectric Project from the transferor to the transferee. The transferee will be required by the Commission to comply with all the requirements of the license as though it were the original licensee.

Applicants Contact: For transferor (Pacific Gas and Electric Company): Ms. Kimberly Ognisty, Senior Counsel, Law, 77 Beale Street, B30A-3005, San Francisco, CA 94105, Phone: (510) 227-7060, Email: kimberly.ognisty@pge.com and Ms. Jan Nimick, VP-Power Generation, 245 Market Street, Room 1163, San Francisco, CA 94105, Phone: (415) 973-0629, Email: jan.nimick@pge.com

For transferee (Tule Hydro LLC): Ms. Miriah Elliott, Director of Operations, 711 E Turtle Point Drive, Ivins, UT 84738, Phone: (801) 891-4147, Email: miriah@tsorenson.net and Mr. Ted Sorenson, PE, Manager, 711 E Turtle Point Drive, Ivins, UT 84738, Phone: (208) 589-6908, Email: ted@tsorenson.net

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-1333-066. Comments emailed to Commission staff are not considered part of the Commission record.

Dated: May 16, 2022.
Kimberly D. Bose,
Secretary.

[FR Doc. 2022-10871 Filed 5-19-22; 8:45 am]

BILLING CODE 6717-01-P